U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on March 21, 2019 on “An Emerging China-Russia Axis? Implications for the United States in an Era of Strategic Competition.”

DATES: The hearing is scheduled for Thursday, March 21, 2019 at 9:00 a.m.

ADDRESSES: TBD, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale Reagan, 444 North Capitol Street NW, Suite 602, Washington DC 20001; telephone: 202-624-1496, or via email at lreagan@uscc.gov. Reservations are not required to attend the hearing.

SUPPLEMENTARY INFORMATION:

Background: This is the third public hearing the Commission will hold during its 2019 report cycle. This hearing will explore the China-Russia relationship and its implications for U.S. national security interests. The first panel will examine areas of strategic, military, and economic cooperation between China and Russia, and the second panel will assess the potential limits and barriers to cooperation in these areas. The third panel examines current and future China-Russia interaction in Central Asia, the Middle East, and the Arctic. The hearing will be co-chaired by Chairman Carolyn Bartholomew and Commissioner Roy Kamphausen. Any interested party may file a written statement by March 21, 2019, by mailing to the contact above. A portion of each panel will include a question and answer period between the Commissioners and the witnesses.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Dated: February 27, 2019.
Daniel W. Peck,
Executive Director, U.S.-China Economic and Security Review Commission.

[FR Doc. 2019-03868 Filed 3-4-19; 8:45 am]

BILLING CODE 1137-00-P